DEPARTMENT OF DEFENSE

Office of the Secretary

Defense Intelligence Agency National Intelligence University Board of Visitors; Notice of Federal Advisory Committee Meeting

AGENCY: Defense Intelligence Agency, Department of Defense (DoD).

ACTION: Notice of Federal Advisory Committee meeting.

SUMMARY: The Department of Defense is publishing this notice to announce that the following Federal Advisory Committee meeting of the National Intelligence University Board of Visitors will take place.

DATES: Tuesday, June 9, 2020 from 3:00 p.m. to 5:00 p.m., Eastern Time.

ADDRESSES: Defense Intelligence Agency 7400 Pentagon, ATTN: NIU, Washington, DC 20301-7400.

FOR FURTHER INFORMATION CONTACT: Dr. Terrence Markin, National Intelligence University, Bethesda, MD 20816, Phone: (301) 243-2118, NIU_Front_Office2@dodiis.mil; melinda.rose@dodiis.mil. Website: https://ni-u.edu/wp/about-niu/leadership-2/board-of-visitors/.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150. Pursuant to 5 U.S.C. 552b and 41 CFR 102-3.140 through 102-3.165, this meeting is open to the public.

Purpose: The Board will discuss two current issues and other matters of interest to the National Intelligence University.

Agenda: Tuesday, June 9. 2020, from 3:00 p.m.to 4:00 p.m. (Eastern Time): Call to Order and COVID-19/NIU Response and Plans for Fall 2020; from 4:00 p.m. to 5:00 p.m. (Eastern Time): NIU Transition to ODNI; Public Comment; and Wrap Up and Closing Remarks.

Meeting Accessibility: The link to the virtual meeting will be posted on the NIU Board of Visitors website at https://ni-u.edu/wp/about-niu/leadership-2/board-of-visitors/ by June 2, one week prior to the meeting. The most up-to-date changes to the meeting agenda will also be posted there.

Written Statements: Pursuant to 41 CFR 102-3.105(j) and 102-3.140, and section 10(a)(3) of the Federal Advisory Committee Act of 1972, written statements to the committee may be submitted to the committee at any time or in response to a stated planned meeting agenda by email to the NIU Front Office at NIU_Front_Office2@dodiis.mil.

Meeting Announcement: Due to circumstances beyond the control of the Department of Defense, the National Intelligence University Board of Visitors was unable to provide public notification required by 41 CFR 102-3.150(a) concerning its June 9, 2020 meeting. Accordingly, the Advisory Committee Management Officer for the Department of Defense, pursuant to 41 CFR 102-3.150(b), waives the 15-calendar day notification requirement.

Dated: June 9, 2020.
Aaron T. Siegel,
Alternate OSD Federal Register Liaison Officer, Department of Defense.

[FR Doc. 2020-12781 Filed 6-11-20; 8:45 am]

BILLING CODE 5001-06-P